DEPARTMENT OF THE INTERIOR

Bureau of Land Management

[CO-200-1220-DU]

Proposed Supplementary Rules Regarding Operation of Motorized Vehicles and Bicycles and Closure of Public Lands to Recreational Target Shooting

AGENCY: Bureau of Land Management; Royal Gorge Field Office, Interior.

ACTION: Proposed supplementary rules for public lands within El Paso, Fremont, Park and Teller Counties, Colorado.

SUMMARY: The Bureau of Land Management (BLM)'s Royal Gorge Field Office is proposing supplementary rules. The proposed supplementary rules would implement three decisions from the Gold Belt Travel Management Plan, approved August 18, 2004. These supplementary rules would apply to the public lands within the Gold Belt Travel Management Plan area under the management of the Royal Gorge Field Office, in El Paso, Fremont, Park, and Teller Counties, Colorado. The rules are needed in order to protect the area's natural resources and provide for public health and safety.

DATES: You should submit your comments by April 7, 2005. In developing final supplementary rules, BLM may not consider comments postmarked or received in person or by electronic mail after this date.

ADDRESSES: Mail, personal, or messenger delivery: Bureau of Land Management, Royal Gorge Field Office, 3170 East Main Street, Cañon City, Colorado 81212.

Internet e-mail: rgfo_comments@blm.co.gov (Include “Attn: Gold Belt Plan”).

FOR FURTHER INFORMATION CONTACT: Roy L. Masinton, Field Manager, or Leah Quesenberry, Outdoor Recreation Planner, Royal Gorge Field Office, 3170 East Main Street, Cañon City, Colorado 81212, telephone (719) 269-8500. Individuals who use a telecommunications device for the deaf (TDD) may contact them individually through the Federal Information Relay Service at 1-800/877-8339, 24 hours a day, seven days a week.

I. Public Comment Procedures

II. Background

III. Discussion of the Supplementary Rules

IV. Procedural Matters

I. Public Comment Procedures

Please submit your comments on issues related to the proposed supplementary rules, in writing, according to the ADDRESSES section, above. Comments on the proposed supplementary rules should be specific, confined to issues pertinent to the proposed supplementary rules, and explain the reason for any recommended change. Where possible, your comments should reference the specific section or paragraph of the proposal that you are addressing. BLM may not necessarily consider or include in the Administrative Record for the final rule comments that we receive after the close of the comment period (see DATES) or comments delivered to an address other than those listed above (see ADDRESSES).

BLM will make your comments, including your name and address, available for public review at the address listed in ADDRESSES above during regular business hours (8 a.m. to 4 p.m., Monday through Friday, except on Federal holidays).

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

II. Background

A “Notice of Intent to Prepare the Gold Belt Travel Management Plan (TMP) and Amend the Royal Gorge Resource Management Plan” was announced in the Federal Register on June 18, 2002 (Volume 67, Number 117, page 41442). The completion of the Gold Belt Travel Management Plan Environmental Assessment led to a 30-day public comment period, starting on January 15, 2004. Following analysis of the public comments, a decision on the Gold Belt TMP was issued on August 18, 2004. The decision restricts Off-Highway Vehicle use to designated roads and trails in the TMP area and includes the proposed supplementary rules.

III. Discussion of Supplementary Rules

These supplementary rules apply to the public lands within the Gold Belt Travel Management Plan area. This area consists of 138,600 acres of public lands within El Paso, Fremont, Park, and Teller Counties, Colorado, in the following described townships:

Colorado, Sixth Principal Meridian

T. 15 S., R. 70 W. through 72 W.

T. 16 S., R. 68 W. through 72 W.

T. 17 S., R. 68 W. through 72 W.

T. 18 S., R. 68 W. through 71 W.

These proposed supplementary rules would implement three decisions from the Gold Belt Travel Management Plan, approved August 18, 2004. They include:

(1) A supplementary rule limiting motorized travel for parking, camping, and retrieving game to a maximum of 100 feet from designated roads and trails in the Gold Belt Travel Management Plan area (138,600 acres of public lands).

(2) A supplementary rule restricting mountain bikes to designated roads and trails in the Gold Belt Travel Management Plan area (138,600 acres of public lands).

(3) The closure of approximately 13,200 acres public lands to recreational target shooting in the following areas: Garden Park Fossil Area (3,000 acres), the Shelf Road campgrounds and climbing area (2,900 acres), a one-quarter mile wide corridor along Phantom Canyon Road (4,200 acres), and Penrose Commons (3,100 acres). Licensed hunters in legitimate pursuit of game during the proper season with appropriate firearms, as defined by the Colorado Division of Wildlife, are exempt from this closure.

BLM has determined that these rules are necessary to prevent damage to public lands and natural resources, reduce user conflicts, protect public safety, and reduce vandalism to public and private property.

The supplementary rules are proposed under the authority of 43 CFR 8341.1, 8364.1, and 8365.1-6.

This notice, with detailed maps, will be posted at the Royal Gorge Field Office.

IV. Procedural Matters

Executive Order 12866, Regulatory Planning and Review

These proposed supplementary rules are not a significant regulatory action and are not subject to review by Office of Management and Budget under Executive Order 12866. These proposed supplementary rules will not have an effect of $100 million or more on the economy. They will not adversely affect in a material way the economy, productivity, competition, jobs, the environment, public health or safety, or State, local, or tribal governments or communities. These proposed supplementary rules will not create a serious inconsistency or otherwise interfere with an action taken or planned by another agency. These proposed supplementary rules do not alter the budgetary effects of entitlements, grants, user fees, or loan programs or the rights or obligations of their recipients; nor do they raise novel legal or policy issues. They merely impose limitations on certain recreational activities on certain public lands to protect natural resources and human health and safety.

Clarity of the Supplementary Rules

Executive Order 12866 requires each agency to write regulations that are simple and easy to understand. We invite your comments on how to make these proposed supplementary rules easier to understand, including answers to questions such as: (1) Are the requirements in the proposed supplementary rules clearly stated? (2) Do the proposed supplementary rules contain technical language or jargon that interferes with their clarity? (3) Is the description of the proposed supplementary rules in the “Discussion of Supplementary Rules” section of this preamble helpful to your understanding of the proposed supplementary rules? How could this description be more helpful in making the proposed supplementary rules easier to understand?

Please send any comments you have on the clarity of the supplementary rules to the address specified in the ADDRESSES section.

National Environmental Policy Act

BLM prepared an environmental assessment (EA) in support of the Gold Belt Travel Management Plan and found that the proposed supplementary rules implementing the plan decisions would not constitute a major Federal action significantly affecting the quality of the human environment under section 102(2)(C) of the National Environmental Policy Act of 1969 (NEPA), 42 U.S.C. 4332(2)(C). A detailed statement under NEPA is not required. BLM has placed the EA, Finding of No Significant Impact (FONSI), and Decision Record on file in the BLM Administrative Record at the address specified in the ADDRESSES section. BLM invites the public to review these documents and suggests that anyone wishing to submit comments in response to the EA, FONSI, and Decision Record do so in accordance with the “Public Comment Procedures” section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These proposed supplementary rules should have no effect on business entities of whatever size. They merely would impose reasonable restrictions on certain recreational activities on certain public lands to protect natural resources and the environment, and human health and safety. Therefore, BLM has determined under the RFA that these proposed supplementary rules would not have a significant economic impact on a substantial number of small entities.

Small Business Regulatory Enforcement Fairness Act (SBREFA)

These proposed supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These proposed supplementary rules do not impose an unfunded mandate on state, local or tribal governments or the private sector of more than $100 million per year; nor do these proposed supplementary rules have a significant or unique effect on State, local, or tribal governments or the private sector. They would merely impose reasonable restrictions on certain recreational activities on certain public lands to protect natural resources and the environment, and human health and safety. Therefore, BLM is not required to prepare a statement containing the information required by the Unfunded Mandates Reform Act (2 U.S.C. 1531 et seq.).

Executive Order 12630, Governmental Actions and Interference With Constitutionally Protected Property Rights (Takings)

The proposed supplementary rules do not represent a government action capable of interfering with constitutionally protected property rights. The reasonable restrictions that would be imposed by these supplementary rules would not deprive anyone of property or interfere with anyone's property rights. Therefore, the Department of the Interior has determined that the rule would not cause a taking of private property or require further discussion of takings implications under this Executive Order.

Executive Order 13132, Federalism

The proposed supplementary rules will not have a substantial direct effect on the States, on the relationship between the national government and the States, or on the distribution of power and responsibilities among the various levels of government. Government vehicles are expressly excluded from the effect of the vehicle restrictions. The shooting restrictions in the supplementary rules do not apply to hunting with a State hunting license. Therefore, in accordance with Executive Order 13132, BLM has determined that the proposed supplementary rules do not have sufficient federalism implications to warrant preparation of a Federalism Assessment.

Executive Order 12988, Civil Justice Reform

Under Executive Order 12988, the Office of the Solicitor has determined that these proposed supplementary rules would not unduly burden the judicial system and that they meet the requirements of sections 3(a) and 3(b)(2) of the Order.

Executive Order 13175, Consultation and Coordination With Indian Tribal Governments [Replaces Executive Order 13084]

In accordance with Executive Order 13175, we have found that these proposed supplementary rules do not include policies that have tribal implications. Formal consultation with 16 tribes was completed for the Gold Belt Travel Management Plan.

Executive Order 13211, Actions Concerning Regulations That Significantly Affect Energy Supply, Distribution, or Use

In accordance with Executive Order 13211, BLM has determined that the proposed supplementary rules will not have substantial direct effects on energy supply, distribution or use, including any shortfall in supply or price increase. The restrictions on vehicle use should have no substantial effect on fuel consumption, and no other provision in the supplementary rules has any relationship to energy supply, distribution, or use.

Paperwork Reduction Act

These supplementary rules do not contain information collection requirements that the Office of Management and Budget must approve under the Paperwork Reduction Act of 1995, 44 U.S.C. 3501 et seq.

Author

The principal author of these supplementary rules is Leah Quesenberry, Outdoor Recreation Planner, Royal Gorge Field Office, Bureau of Land Management.

Supplementary Rules for the Gold Belt Travel Management Plan Area

Under 43 CFR 8341.1, 8364.1, and 8365.1-6, the Bureau of Land Management will enforce the following rules on the public lands within the Gold Belt Travel Management Plan area, Royal Gorge Field Office, Colorado. You must follow these rules:

Rules

1. In the Gold Belt Travel Management Plan area (138,600 acres of public land)—

a. You must not park a motorized vehicle farther than 100 feet from a designated road or trail;

b. You must not use a motorized vehicle for camping more than 100 feet from a designated road or trail;

c. You must not use a motorized vehicle for retrieving game more than 100 feet from a designated road and trail.

2. You must not ride mountain bikes other than on designated roads and trails on public lands in the Gold Belt Travel Management Plan area.

3. You must not engage in recreational target shooting on public lands in the following areas: Garden Park Fossil Area (3,000 acres), the Shelf Road campgrounds and climbing area (2,900 acres), a one-quarter mile wide corridor along Phantom Canyon Road (4,200 acres), and Penrose Commons (3,100 acres).

Exceptions

These supplementary rules do not apply to emergency, law enforcement, and Federal or other government vehicles while being used for official or other emergency purposes, or to any other vehicle use that is expressly authorized or otherwise officially approved by BLM. The prohibition of target shooting in rule 3 has no effect on hunting by licensed hunters in legitimate pursuit of game during the proper season with appropriate firearms, as defined by the Colorado Division of Wildlife.

Penalties

Under section 303(a) of the Federal Land Policy and Management Act of 1976 (43 U.S.C. 1733(a)) and 43 CFR 8360.0-7 if you violate any of these supplementary rules on public lands within the boundaries established in the rules, you may be tried before a United States Magistrate and fined no more than $1,000 or imprisoned for no more than 12 months, or both. Such violations may also be subject to the enhanced fines provided for by 18 U.S.C. 3571.

Roy L. Masinton,
Field Manager.

[FR Doc. 05-4423 Filed 3-7-05; 8:45 am]

BILLING CODE 4310-JB-P